DEPARTMENT OF ENERGY

Federal Energy Regulatory Commission

[Docket Nos. CP05-119-002; CP05-121-002]

Cameron Interstate Pipeline, LLC; Notice of Amendment

August 22, 2006.

Take notice that on August 4, 2006, with supplemental information added on August 17, and August 21, 2006, Cameron Interstate Pipeline, LLC (Cameron Interstate Pipeline), 101 Ash Street, San Diego, CA 92101, filed in the above referenced docket(s), an abbreviated application to amend its certificates of public convenience and necessity issued pursuant to section 7(c) of the Natural Gas Act, and the Commission's regulations, 18 CFR Parts 157 and 284. In Docket No. CP05-119-002 Cameron Interstate Pipeline is seeking to amend its certificate to construct and operate its pipeline, and in Docket No. CP05-121-002 it is seeking to amend its blanket certificate to transport natural gas.

The application is on file with the Commission and open for public inspection. This application is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

Any questions regarding Cameron Interstate Pipeline's application should be directed to: William D. Rapp, Senior Regulatory Counsel, Sempra Energy, 101 Ash Street HQ 13, San Diego, CA 92101, phone (619) 699-5050, e-mail wrapp@sempra.com; or Marty C. Swartz, Director of Development, Sempra Pipelines & Storage, 101 Ash Street HQ 13, San Diego, CA 92101, phone (619) 696-2533, e-mail mswartz@semprapipelines.com.

Cameron Interstate requests authority to: (i) Increase the diameter of the pipeline facilities previously authorized by the Commission from 36 inches to 42 inches, (ii) construct an additional 1.1 miles of 42 inch pipeline, (iii) construct the necessary facilities to establish three additional pipeline interconnections, and (iv) revise its transportation rates to reflect the increased costs of the additional 1.1 miles of pipeline and three new interconnections (about $ 9.8 million), and to allocate costs to interruptible transportation.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: September 13, 2006.

Magalie R. Salas,
Secretary.

[FR Doc. E6-14380 Filed 8-29-06; 8:45 am]

BILLING CODE 6717-01-P